DEPARTMENT OF COMMERCE

International Trade Administration

[A-552-843]

Certain Corrosion-Resistant Steel Products From the Socialist Republic of Vietnam: Amended Preliminary Affirmative Determination of Sales at Less Than Fair Value

AGENCY: Enforcement and Compliance, International Trade Administration, Department of Commerce.

SUMMARY: The U.S. Department of Commerce (Commerce) is amending its preliminarily affirmative determination in the less-than-fair-value (LTFV) investigation of certain corrosion-resistant steel products (CORE) from the Socialist Republic of Vietnam (Vietnam) to correct for significant ministerial errors. The period of investigation (POI) is January 1, 2024, through June 30, 2024.

DATES: Applicable May 29, 2025.

FOR FURTHER INFORMATION CONTACT: Jacob Waddell, AD/CVD Operations, Office VI, Enforcement and Compliance, International Trade Administration, U.S. Department of Commerce, 1401 Constitution Avenue NW, Washington, DC 20230; telephone: (202) 482-1369.

SUPPLEMENTARY INFORMATION:

Background

On April 10, 2024, Commerce published in the Federal Register its preliminary affirmative determination in the LTFV investigation of CORE from Vietnam.¹ On April 14, 2025, the petitioners ² timely alleged that Commerce made significant ministerial errors in the Preliminary Determination.³ Also on April 14, 2025, Hoa Sen Group (HSG), Ton Dong A Corporation (TDA), the Government of Vietnam, and Maruichi Sun Steel Trading Company (Maruichi) timely alleged that Commerce made ministerial errors in the Preliminary Determination.⁴

¹ See Certain Corrosion-Resistant Steel Products from the Socialist Republic of Vietnam: Preliminary Affirmative Determination of Sales at Less Than Fair Value, Postponement of Final Determination, and Extension of Provisional Measures, 90 FR 15343 (April 10, 2025) (Preliminary Determination), and accompanying Preliminary Decision Memorandum.

² The petitioners are Steel Dynamics, Inc., Nucor Corporation, United States Steel Corporation, Wheeling-Nippon Steel, Inc., and the United Steel, Paper and Forestry, Rubber, Manufacturing, Energy, Allied Industrial and Service Workers International Union, AFL-CIO, CLC.

³ See Petitioners' Letter, “Petitioners' Comments on Significant Ministerial Errors in the Preliminary Determination,” dated April 14, 2025 (Petitioners' Allegation).

⁴ See HSG's Letter, “Preliminary Determination Ministerial Error Comments,” dated April 14, 2025 (HSG's Allegation); see also TDA's Letter, “TDA's Ministerial Error Comments,” dated April 14, 2025 (TDA's Allegation); see also Maruichi's Letter, “Maruichi Ministerial Error Comment,” dated April 14, 2025 (Maruichi's Allegation); see also Government of Vietnam's Letter, “GOV's Comments on the Preliminary Determination,” dated April 14, 2025 (GOV's Allegation).

Scope of the Investigation

The product covered by this investigation is CORE from Vietnam. For a complete description of the scope of this investigation, see Appendix I.

Legal Framework

A ministerial error is defined as including “errors in addition, subtraction, or other arithmetic function, clerical error resulting from inaccurate copying, duplication, or the like, and any other similar type of unintentional error which {Commerce} considers ministerial.” ⁵ A ministerial error is considered to be “significant” if its correction, either singly or in combination with other errors, would result in: (1) a change of at least five absolute percentage points in, but not less than 25 percent of, the weighted-average dumping margin calculated in the preliminary determination; or (2) a difference between a weighted-average dumping margin of zero (or de minimis) and a weighted-average dumping margin of greater than de minimis or vice versa.⁶ Pursuant to 19 CFR 351.224(e), Commerce “will analyze any comments received and, if appropriate, correct any significant ministerial error by amending the preliminary determination.”

⁵ See section 735(e) of the Tariff Act of 1930, as amended (the Act); see also 19 CFR 351.224(f).

⁶ See 19 CFR 351.224(g).

Analysis of Significant Ministerial Errors

In the Preliminary Determination, we find that Commerce made significant ministerial errors within the meaning of section 735(e) of the Act and 19 CFR 351.224(f) and (g)(1) in calculating the estimated weighted-average dumping margins for HSG and TDA. Accordingly, pursuant to 19 CFR 351.224(e), Commerce is amending its Preliminary Determination to correct for these significant ministerial errors by revising the weighted-average dumping margins for HSG, TDA, the non-individually examined separate rate companies, and the Vietnam-Wide Entity. For a detailed discussion of the alleged ministerial errors, as well as Commerce's analysis, see the Ministerial Error Memorandum.⁷

⁷ See Memorandum, “Ministerial Error Allegation Regarding the Preliminary Determination,” dated concurrently with this notice (Ministerial Error Memorandum).

Amended Preliminary Determination

As a result of correcting the significant ministerial errors, Commerce determines that the following amended preliminary estimated weighted-average dumping margins exist:

Producer | Exporter | Weighted-average dumping margin (percent) | Cash deposit rate (adjusted for subsidy offset(s)) (percent) ⁸
Hoa Sen Group/Hoa Sen Nghe An One Member Limited Liabilities Company/Hoa Sen Nhon Hoi—Binh Dinh One Member Limited Liabilities Company.⁹ | Hoa Sen Group/Hoa Sen Nghe An One Member Limited Liabilities Company/Hoa Sen Nhon Hoi—Binh Dinh One Member Limited Liabilities Company | 132.10 | N/A
Ton Dong A Corporation | Ton Dong A Corporation | 51.64 | N/A
China Steel and Nippon Steel Viet Nam Joint Stock Company | China Steel and Nippon Steel Viet Nam Joint Stock Company | 91.87 | N/A
Hoa Phat Steel Sheet Limited Liability Company | Hoa Phat Steel Sheet Limited Liability Company | 91.87 | N/A
Maruichi Sun Steel Joint Stock Company | Maruichi Sun Steel Joint Stock Company | 91.87 | N/A
Nam Kim Steel Joint Stock Company | Nam Kim Steel Joint Stock Company | 91.87 | N/A
Pomina Flat Steel Joint Stock Company | Pomina Flat Steel Joint Stock Company | 91.87 | N/A
Sam Hwan Vina Co., Ltd | Sam Hwan Vina Co., Ltd | 91.87 | N/A
Southern Steel Sheet Co., Ltd | Southern Steel Sheet Co., Ltd | 91.87 | N/A
Tay Nam Steel Manufacturing & Trading Co., Ltd | Tay Nam Steel Manufacturing & Trading Co., Ltd | 91.87 | N/A
TVP Steel Trading Joint Stock Company | TVP Steel Trading Joint Stock Company | 91.87 | N/A
Viet Phap Steel Corrugated Joint Stock Company | Viet Phap Steel Corrugated Joint Stock Company | 91.87 | N/A
Vietnam-Wide Entity | * 178.89 | 136.57
* Rate based on facts available with adverse inferences.

Disclosure

We intend to disclose the calculations performed for this amended preliminary determination to parties within five days after public announcement or, if there is no public announcement, within five days of the date of publication of this notice, in accordance with 19 CFR 351.224(b).

⁸ We are not applying an export subsidy offset to the mandatory respondents because Commerce found no export subsidies were provided to HSG and TDA. See Certain Corrosion-Resistant Steel Products from the Socialist Republic of Vietnam: Preliminary Affirmative Countervailing Duty Determination, and Alignment of Final Determination with Antidumping Duty Determination, 90 FR 9235 (February 10, 2025), and accompanying Preliminary Decision Memorandum. Similarly, no offset applies to the separate rate companies because their rate is based on the rates determined for HSG and TDA. For the Vietnam-wide entity, we have determined the amount of the offset based on the CVD Preliminary Determination for the non-responsive companies subject to total AFA. See also Memorandum, “Calculation of CVD Subsidy Offset for the Vietnam-Wide Entity,” dated concurrently with this Federal Register Notice.

⁹ Commerce preliminarily determines that HSG, Hoa Sen Nghe An One Member Limited Liabilities Company, and Hoa Sen Nhon Hoi—Binh Dinh One Member Limited Liabilities Company are a single entity. See Preliminary Decision Memorandum.

Amended Cash Deposits and Suspension of Liquidation

The collection of cash deposits and suspension of liquidation will be revised according to the rates calculated in this amended preliminary determination, in accordance with section 733(d) of the Act. Because this amended preliminary determination results in an increased cash deposit rate, this rate will be effective on the date of publication of this notice in the Federal Register. These suspension of liquidation instructions will remain in effect until further notice.

U.S. International Trade Commission Notification

In accordance with section 733(f) of the Act, Commerce will notify the U.S. International Trade Commission (ITC) of our amended preliminary determination.

Notification to Interested Parties

This amended preliminary determination is issued and published in accordance with sections 733(d) and 777(i)(1) of the Act and 19 CFR 351.224 (e).

Dated: May 22, 2025.
Abdelali Elouaradia,
Deputy Assistant Secretary for Enforcement and Compliance.

Appendix I

Scope of the Investigation

The products covered by this investigation are certain flat-rolled steel products, either clad, plated, or coated with corrosion-resistant metals such as zinc, aluminum, or zinc-, aluminum-, nickel- or iron-based alloys, whether or not corrugated or painted, varnished, laminated, or coated with plastics or other non-metallic substances in addition to the metallic coating. The products covered include coils that have a width of 12.7 mm or greater, regardless of form of coil (e.g., in successively superimposed layers, spirally oscillating, etc.). The products covered also include products not in coils (e.g., in straight lengths) of a thickness less than 4.75 mm and a width that is 12.7 mm or greater and that measures at least 10 times the thickness. The products covered also include products not in coils (e.g., in straight lengths) of a thickness of 4.75 mm or more and a width exceeding 150 mm and measuring at least twice the thickness. The products described above may be rectangular, square, circular, or other shape and include products of either rectangular or non-rectangular cross-section where such cross-section is achieved subsequent to the rolling process, i.e., products which have been “worked after rolling” (e.g., products which have been beveled or rounded at the edges).

For purposes of the width and thickness requirements referenced above:

(1) Where the nominal and actual measurements vary, a product is within the scope if application of either the nominal or actual measurement would place it within the scope based on the definitions set forth above, and

(2) where the width and thickness vary for a specific product (e.g., the thickness of certain products with non-rectangular cross-section, the width of certain products with non-rectangular shape, etc.), the measurement at its greatest width or thickness applies.

Steel products included in the scope of these investigations are products in which: (1) iron predominates, by weight, over each of the other contained elements; and (2) the carbon content is 2 percent or less, by weight.

Subject merchandise also includes corrosion-resistant steel that has been further processed in a third country, including but not limited to annealing, tempering, painting, varnishing, trimming, cutting, punching and/or slitting or any other processing that would not otherwise remove the merchandise from the scope of the investigations if performed in the country of manufacture of the in-scope corrosion resistant steel.

All products that meet the written physical description are within the scope of these investigations unless specifically excluded. The following products are outside of and/or specifically excluded from the scope of this investigation:

• Flat-rolled steel products either plated or coated with tin, lead, chromium, chromium oxides, both tin and lead (“terne plate”) or both chromium and chromium oxides (“tin free steel”), whether or not painted, varnished or coated with plastics or other non-metallic substances in addition to the metallic coating;

• Clad products in straight lengths of 4.7625 mm or more in composite thickness and of a width which exceeds 150 mm and measures at least twice the thickness;

• Certain clad stainless flat-rolled products, which are three-layered corrosion-resistant carbon steel flat-rolled products less than 4.75 mm in composite thickness that consist of a carbon steel flat-rolled product clad on both sides with stainless steel in a 20%-60%-20% ratio; and

Also excluded from the scope of the antidumping duty investigation on corrosion resistant steel from Taiwan are any products covered by the existing antidumping duty order on corrosion-resistant steel from Taiwan. See Certain Corrosion-Resistant Steel Products from India, Italy, the People's Republic of China, the Republic of Korea and Taiwan: Amended Final Affirmative Antidumping Determination for India and Taiwan, and Antidumping Duty Orders, 81FR 48390 (July 25, 2016); Corrosion-Resistant Steel Products from Taiwan: Notice of Third Amended Final Determination of Sales at Less Than Fair Value Pursuant to Court Decision and Partial Exclusion from Antidumping Duty Order, 88 FR 58245 (August 25, 2023).

Also excluded from the scope of the antidumping duty investigation on corrosion-resistant steel from the United Arab Emirates and the antidumping duty and countervailing duty investigations on corrosion-resistant steel from the Socialist Republic of Vietnam are any products covered by the existing antidumping and countervailing duty orders on corrosion-resistant steel from the People's Republic of China and the Republic of Korea and the antidumping duty order on corrosion-resistant steel from Taiwan. See Certain Corrosion-Resistant Steel Products from India, Italy, the People's Republic of China, the Republic of Korea and Taiwan: Amended Final Affirmative Antidumping Determination for India and Taiwan, and Antidumping Duty Orders, 81 FR 48390 (July 25, 2016); see also Certain Corrosion-Resistant Steel Products from India, Italy, Republic of Korea and the People's Republic of China: Countervailing Duty Order, 81 FR 48387 (July 25, 2016). This exclusion does not apply to imports of corrosion-resistant steel that are entered, or withdrawn from warehouse, for consumption in the United States for which the relevant importer and exporter certifications have been completed and maintained and all other applicable certification requirements have been met such that the entry is entered into the United States as not subject to the antidumping and countervailing duty orders on corrosion-resistant steel from the People's Republic of China, the antidumping and countervailing duty orders on corrosion-resistant steel from the Republic of Korea, or the antidumping duty order on corrosion-resistant steel from Taiwan.

The products subject to the investigation are currently classified in the Harmonized Tariff Schedule of the United States (HTSUS) under item numbers: 7210.30.0030, 7210.30.0060, 7210.41.0000, 7210.49.0030, 7210.49.0040, 7210.49.0045, 7210.49.0091, 7210.49.0095, 7210.61.0000, 7210.69.0000, 7210.70.6030, 7210.70.6060, 7210.70.6090, 7210.90.6000, 7210.90.9000, 7212.20.0000, 7212.30.1030, 7212.30.1090, 7212.30.3000, 7212.30.5000, 7212.40.1000, 7212.40.5000, 7212.50.0000, 7212.60.0000, 7225.91.0000, 7225.92.0000, 7226.99.0110, and 7226.99.0130.

The products subject to the investigation may also enter under the following HTSUS item numbers: 7210.90.1000, 7215.90.1000, 7215.90.3000, 7215.90.5000, 7217.20.1500, 7217.30.1530, 7217.30.1560, 7217.90.1000, 7217.90.5030, 7217.90.5060, 7217.90.5090, 7225.99.0090, 7226.99.0180, 7228.60.6000, 7228.60.8000, and 7229.90.1000.

The HTSUS subheadings above are provided for convenience and customs purposes only. The written description of the scope of the investigation is dispositive.

[FR Doc. 2025-09701 Filed 5-28-25; 8:45 am]

BILLING CODE 3510-DS-P